DEPARTMENT OF TRANSPORTATION

Coast Guard

33 CFR Part 117

[CGD08-01-018]

Drawbridge Operation Regulation; Inner Harbor Navigation Canal, LA; Correction

AGENCY: Coast Guard, DOT.

ACTION: Notice of temporary deviation from regulations; correction.

SUMMARY: The Coast Guard published a document in the Federal Register of July 23, 2001, concerning a temporary deviation from the regulation governing the operation of the Florida Avenue bascule span drawbridge across the Inner Harbor Navigation Canal, mile 1.7 at New Orleans, Orleans Parish, Louisiana. This temporary deviation was issued to allow for replacement of the damaged fender system. The work has been rescheduled and the dates have changed from those which were previously published.

DATES: The effective date of the notice of temporary deviation from regulations published July 23, 2001 (66 FR 38155) is corrected to be from 6:45 a.m. on Monday, October 29, 2001, until 6:45 p.m. on Monday, November 19, 2001.

FOR FURTHER INFORMATION CONTACT: Phil Johnson, Bridge Administration Branch, telephone (504) 589-2965.

Correction

In the Federal Register of July 23, 2001, in FR Doc. 01-18245 on page 38155 in the first column: 1. Correct the second sentence of the SUMMARY caption to read:

This deviation allows the draw of the Florida Avenue bascule span drawbridge to remain closed to navigation daily from 6:45 a.m. until 12:15 p.m. and from 1:15 p.m. until 6:45 p.m. from October 29, 2001 through November 19, 2001.

2. In the second column of page 38155, correct the first sentence of the second paragraph of the SUPPLEMENTARY INFORMATION caption to read:

This deviation allows the draw of the Florida Avenue bascule span drawbridge to remain closed to navigation daily from 6:45 a.m. until 12:15 p.m. and from 1:15 p.m. until 6:45 p.m. from October 29, 2001 through November 19, 2001.

Dated: October 5, 2001.
Roy J. Casto,
Rear Admiral, U.S. Coast Guard, Commander, Eighth Coast Guard District.

[FR Doc. 01-26162 Filed 10-18-01; 8:45 am]

BILLING CODE 4910-15-P